DEPARTMENT OF ENERGY

Federal Energy Regulatory Commission

[Docket Nos. CP14-101-000; PF13-17-000]

City of Clarksville, Tennessee; Notice of Application

Take notice that on March 7, 2014, City of Clarksville, Tennessee (Clarksville), filed an application pursuant to section 7(c) of the Natural Gas Act and Part 157 of the Commission's Regulations, for a limited jurisdiction certificate authorizing Clarksville to construct and operate a 20.8-mile, 12-inch diameter pipeline connecting with the interstate pipeline facilities of Texas Gas Transmission, LLC (Texas Gas) located in Elkton, Kentucky. Clarksville also requests for waivers of the Part 284 open access transportation regulatory requirements regarding the proposed pipeline, but does seek a blanket certificate authorization under Subpart F of Part 157 for construction and operation of subsequent qualifying facilities. The filing may also be viewed on the web at http://www.ferc.gov using the “eLibrary” link. Enter the docket number excluding the last three digits in the docket number field to access the document. For assistance, contact FERC at FERCOnlineSupport@gerc.gov or call toll-free, (886) 208-3676 or TYY, (202) 502-8659.

Any questions regarding this application should be directed to Joshua L. Menter, McCarter & English, LLP., 1015 15th Street NW., 12th Floor, Washington, DC 20005. Telephone (202) 296-2960 and email: jmenter@mccarter.com.

Clarksville is a public municipality under the laws of State of Tennessee and currently owns and operates a municipal distribution system providing natural gas service to approximately 24,500 customers in and around the City of Clarksville, Tennessee. The proposed pipeline is designed to transport 52,000 Mcf/day for the sole purpose of providing access to additional natural gas sources to serve Clarksville's retail distribution system. The cost of the proposed facilities is approximately $19.6 million. Clarksville proposes an in-service date of October 1, 2015.

On August 26, 2013, the Commission staff granted Clarksville's request to use the National Environmental Policy Act (NEPA) Pre-Filing Process and assigned Docket No. PF13-17-000 to staff activities involving the proposed facilities. Now, as of the filing of this application on March 7, 2014, the NEPA Pre-Filing Process for this project has ended. From this time forward, this proceeding will be conducted in Docket No. CP14-101-000, as noted in the caption of this Notice.

Pursuant to Section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's Web site under the “e-Filing” link. The Commission strongly encourages electronic filings.

Comment Date: April 8, 2014.

Dated: March 18, 2014.
Kimberly D. Bose,
Secretary.

[FR Doc. 2014-06346 Filed 3-21-14; 8:45 am]

BILLING CODE 6717-01-P